DEPARTMENT OF THE INTERIOR

Fish and Wildlife Service

[FWS-R5-R-2008-N0013; 50130-1265-0000-S3]

Iroquois National Wildlife Refuge, Genesee County and Orleans County, NY

AGENCY: Fish and Wildlife Service, Interior.

ACTION: Notice of intent to prepare a comprehensive conservation plan and environmental assessment; request for comments.

SUMMARY: We, the U.S. Fish and Wildlife Service (Service), intend to prepare a comprehensive conservation plan (CCP) and an associated National Environmental Policy Act (NEPA) document for Iroquois National Wildlife Refuge (NWR). We provide this notice in compliance with our planning policy to advise other agencies, Tribes, and the public of our intentions, and to obtain suggestions and information on the scope of issues to consider. We are also requesting public comments.

DATES: To ensure consideration, we must receive your written comments by April 30, 2008. We will hold public meetings to begin the CCP planning process; see Public Meetings under SUPPLEMENTARY INFORMATION. We will announce opportunities for public input in local news media throughout the CCP planning process, and will announce upcoming public meetings in local news media and the refuge Web site.

ADDRESSES: Send your comments or requests for more information by any of the following methods.

Electronic mail: northeastplanning@fws.gov. Include “Iroquois NWR CCP/EA” in the subject line of the message.

U.S. Postal Service: Iroquois NWR, 1101 Casey Road, Basom, NY, 14013.

In-Person Drop-off, Viewing, or Pickup: Call 585-948-5445 to make an appointment during regular business hours at 1101 Casey Road, Alabama, NY.

Fax: 585-948-9538.

FOR FURTHER INFORMATION CONTACT: Thomas Roster, Project Leader, at 585-948-5445, or Thomas Bonetti, Planning Team Leader, at 413-253-8307.

SUPPLEMENTARY INFORMATION:

Introduction

With this notice, we initiate our process for developing a CCP for Iroquois NWR in Genessee County and Orleans County, NY. We provide this notice in compliance with our planning policy to (1) advise other Federal and State agencies and the public of our intention to conduct detailed planning on this refuge and (2) obtain suggestions and information on the scope of topics to consider in the environmental document and during development of the CCP.

Background

The CCP Process

The National Wildlife Refuge System Improvement Act of 1997 (Improvement Act) (16 U.S.C. 668dd-668ee), which amended the National Wildlife Refuge System Administration Act of 1966, requires us to develop a CCP for each national wildlife refuge. The purpose for developing a CCP is to provide refuge managers with a 15-year plan for achieving refuge purposes and contributing toward the mission of the National Wildlife Refuge System (NWRS), consistent with sound principles of fish and wildlife management, conservation, legal mandates, and our policies. In addition to outlining broad management direction on conserving wildlife and their habitats, CCPs identify wildlife-dependent recreational opportunities available to the public, including opportunities for hunting, fishing, wildlife observation and photography, and environmental education and interpretation. We will review and update the CCP at least every 15 years in accordance with the Improvement Act and NEPA.

We establish each unit of the NWRS for specific purposes. We use these purposes as the bases to develop and prioritize management goals and objectives for the refuge within the NWRS mission, and to determine how the public can use the refuge. The planning process is a way for us and the public to evaluate management goals and objectives for the best possible conservation approach to this important wildlife habitat, while providing for wildlife-dependent recreation opportunities that are compatible with the refuge's establishing purposes and the mission of the NWRS. Our CCP process provides opportunities for Tribal, State, and local governments; agencies; organizations; and the public to participate. At this time, we encourage the public to provide input in the form of issues, concerns, ideas, and suggestions for the future management of Iroquois NWR.

We will conduct the environmental review of this environmental assessment in accordance with the requirements of NEPA, as amended (42 U.S.C. 4321 et seq.); NEPA regulations (40 CFR parts 1500-1508); other appropriate Federal laws and regulations; and our policies and procedures for compliance with those laws and regulations.

Iroquois National Wildlife Refuge

Iroquois NWR was established in 1958 under the Migratory Bird Conservation Act for “* * *use as an inviolate sanctuary, or for any other management purpose, for migratory birds (16 U.S.C. 715d).” The refuge consists of more than 10,800 acres within the rural townships of Alabama and Shelby, New York, midway between Buffalo and Rochester. Freshwater marshes and hardwood swamps are bounded by forests, grasslands, and wet meadows. These areas serve the habitat needs of both migratory and resident wildlife, including waterfowl, songbirds, mammals, and amphibians, as well as numerous indigenous plant species.

Scoping: Preliminary Issues, Concerns, and Opportunities

We have identified preliminary issues, concerns, and opportunities that we may address in the CCP. We have briefly summarized these issues below. During public scoping, we may identify additional issues.

Iroquois NWR incorporates several management techniques to create desired habitat types and wildlife rich environments. Some of the management techniques to be addressed in the CCP will include prescribed fire, haying, water level management, invasive species control through herbicide application, removal of select artificial nest structures, and mechanical manipulation of habitats.

Additionally, public use throughout the refuge will be reevaluated in relation to wildlife-dependent recreation and other mission compatible uses. These uses will include waterfowl, big game, small game, and turkey hunting; fishing and fishing access points; trapping area(s) and the permitting process; seasonal access throughout the refuge; deletion, addition, or modification of the trails, overlooks, and parking areas; and visitor facilities.

Public Meetings

We will involve the public through open houses, informational and technical meetings, and written comments. We will release mailings, news releases, and announcements to provide information about opportunities for public involvement in the planning process. You can obtain the schedule from the planning team leader or project leader (see ADDRESSES). You may also submit comments anytime during the planning process by mail, electronic mail, or fax (see ADDRESSES). There will be additional opportunities to provide public input once we have prepared a draft CCP.

We anticipate that public meetings will be held in three locations: Basom, New York; Albion, New York; and Batavia, New York. For specific information including dates, times, and locations, contact the project leader (see ADDRESSES) or visit our Web site at http://www.fws.gov/northeast/iroquois.

Public Availability of Comments

Our practice is to make comments, including names, home addresses, home phone numbers, and electronic mail addresses of respondents available for public review. Individual respondents may request that we withhold their names and/or home addresses, etc., but if you wish us to consider withholding this information, you must state this prominently at the beginning of your comments. In addition, you must present a rationale for withholding this information. This rationale must demonstrate that disclosure would constitute a clearly unwarranted invasion of privacy. Unsupported assertions will not meet this burden. In the absence of exceptional, documentable circumstances, this information will be released. We will always make submissions from organizations or businesses, and from individuals identifying themselves as representatives of or officials of organizations or businesses, available for public inspection in their entirety.

Dated: February 19, 2008.
Wendi Weber,
Acting Regional Director, Northeast Region, U.S. Fish and Wildlife Service, Hadley, Massachusetts.

[FR Doc. E8-3571 Filed 2-25-08; 8:45 am]

BILLING CODE 4310-55-P